DEPARTMENT OF THE INTERIOR

Fish and Wildlife Service

50 CFR Part 17

Endangered and Threatened Wildlife and Plants; 90-Day Finding on a Petition to Delist the Plymouth Redbelly Turtle (Pseudemys rubriventris bangsi)

AGENCY: Fish and Wildlife Service, Interior.

ACTION: Notice of 90-day petition finding and initiation of status review.

SUMMARY: We, the U.S. Fish and Wildlife Service (Service), announce a 90-day finding on a petition to remove the Plymouth redbelly turtle (Pseudemys rubriventris bangsi), now referred to as the Plymouth (or northern) red-bellied cooter (P. rubriventris), from the Federal List of Threatened and Endangered Wildlife under the Endangered Species Act of 1973, as amended (Act). We find that the petition and additional information in our files presents substantial information indicating that delisting the Plymouth red-bellied cooter may be warranted, and we are therefore initiating a status review. To assist us in ensuring that the review is comprehensive, we are soliciting information and data regarding this species.

DATES: The administrative finding announced in this document was made on October 3, 2006. To be considered in the 12-month finding for this petition, comments and information should be submitted to us by December 4, 2006.

ADDRESSES: Data, information, comments, or questions concerning this petition and our finding should be submitted to the Field Supervisor (Attention: Endangered Species), New England Field Office, 70 Commercial Street, Suite 300, Concord, New Hampshire 03301. The petition, administrative record, supporting data, and comments will be available for public inspection, by appointment, during normal business hours at the above address.

FOR FURTHER INFORMATION CONTACT: Michael J. Amaral, Sr. Endangered Species Specialist, at the New England Field Office (see ADDRESSES above), or at 603-223-2541.

SUPPLEMENTARY INFORMATION:

Public Information Solicited

When we make a finding that substantial information exists to indicate that listing or delisting a species may be warranted, we are required to promptly commence a review of the status of the species. We intend that any final action resulting from this status review will be as accurate and effective as possible. Therefore, we request comments or suggestions from the public, other concerned governmental agencies, Native American Tribes, the scientific community, industry, or any other interested parties. We would be particularly interested in any data indicating that the Plymouth red-bellied cooter may qualify for protection under the Act as a distinct population segment per standards as described in the Policy Regarding the Recognition of Distinct Vertebrate Population Segments Under the Endangered Species Act (February 7, 1996; 61 FR pages 4722) or as part of some larger taxonomic entity that is threatened or endangered. We are opening a 60-day public comment period (see DATES) to allow all interested parties an opportunity to provide information on the status of the Plymouth red-bellied cooter throughout its range, including information on the species' biology and ecology; its genetics and taxonomic classification; the historic and current abundance and distribution of the Plymouth, Massachusetts population; ongoing conservation measures for the species and its habitat; and the threats facing the Plymouth red-bellied cooter in relation to the five listing factors (as defined in section 4(a)(1) of the Act).

We will base our 12-month finding on a review of the best scientific and commercial information available, including all information received during the public comment period. If you wish to provide comments you may submit your comments and materials concerning this finding to the Field Supervisor, New England Field Office (see ADDRESSES section). Please note that comments merely stating support or opposition to the actions under consideration without providing supporting information, although noted, will not be considered in making a determination, as section 4(b)(1)(A) of the Act directs that determinations as to whether any species is a threatened or endangered species shall be made “solely on the basis of the best scientific and commercial data available.” At the conclusion of the status review, we will issue the 12-month finding on the petition, as provided in section 4(b)(3)(B) of the Act.

Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that the Service may be required to disclose your name and address pursuant to the Freedom of Information Act. However, we will not consider anonymous comments. We will make all submissions from organizations or businesses, and from individuals identifying themselves as representatives or officials of organizations or businesses, available for public inspection in their entirety.

All comments and materials received will be available for public inspection, by appointment, during normal business hours at our New England Field Office (see ADDRESSES).

Background

Section 4(b)(3)(A) of the Endangered Species Act of 1973, as amended (Act) (16 U.S.C. 1531 et seq.), requires that we make a finding on whether a petition to list, delist, or reclassify a species presents substantial scientific or commercial information to demonstrate that the petitioned action may be warranted. To the maximum extent practicable, we are to make this finding within 90 days of the receipt of the petition and publish a notice of the finding promptly in the Federal Register.

Our standard for substantial scientific information within the Code of Federal Regulations (CFR) with regard to a 90-day petition finding is “that amount of information that would lead a reasonable person to believe that the measure proposed in the petition may be warranted” (50 CFR 424.14(b)). If we find that substantial information was presented, we are required to promptly commence a review of the status of the involved species. After completing the status review, we will issue a 12-month finding determining whether delisting or an alternative action is warranted.

The factors for listing, delisting, or reclassifying species are described at 50 CFR 424.11. We may delist a species only if the best scientific and commercial data available substantiate that it is neither endangered nor threatened. Delisting may be warranted as a result of: (1) Extinction; (2) recovery; or (3) a determination that the original data used for classification of the species as endangered or threatened were in error.

Petition

On February 8, 1997, we received a petition from the National Wilderness Institute dated February 3, 1997, requesting that we remove the “Redbelly turtle (P. r. bangsi)” from the List of Threatened and Endangered Wildlife on the basis of data error. The petition was clearly identified as such. We acknowledged receipt of the petition in a June 29, 1998, letter that further explained our inability to undertake prompt action because of the low priority assigned to delisting petitions in the Listing Priority Guidance for Fiscal Years 1998 and 1999, which was published in the Federal Register on May 8, 1998 (63 FR 25502). Since 1999, higher priority work has precluded us from acting on the petition to delist the Plymouth red-bellied cooter.

The petition focuses solely on the question of validity of the subspecies bangsi and cites only unpublished data and an alleged excerpt from the 1981 Plymouth Red Bellied Turtle Recovery Plan (recovery plan). The petitioner provided no new data on the taxonomy of, status of, or threats to the Plymouth red-bellied cooter, and provided no bibliography of published literature on the species. Other available information, including published data (e.g., Iverson and Graham 1990, pp. 1-13) and two subsequent recovery plan revisions (USFWS 1985, pp. 1-28; USFWS 1994, pp. 1-39), was not included or cited in the petition.

A review of the 1981 recovery plan found that the plan does not contain the quote cited by the petitioner as the basis for the cooter being listed due to data error. However, the 1985 first recovery plan revision does contain the cited information (USFWS 1985, p. 2). Information in Service files confirms that herpetologists generally concur that the Plymouth, Massachusetts, population is a disjunct occurrence of Pseudemys rubriventris, a species that is more widely distributed in the mid-Atlantic States, and not a distinct subspecies as described by Babcock (1937, p. 293).

Finding

We have reviewed the petition, the literature cited in the petition, and information in our files. On the basis of our review, we find that there is substantial information indicating that the petitioned action may be warranted, and we are initiating a status review of the species. At the conclusion of the status review, we will issue a 12-month finding, in accordance with section 4(b)(3)(B) of the Act, as to whether or not delisting is warranted.

References Cited

A complete list of all references cited herein is available upon request from the Field Supervisor, New England Field Office (see ADDRESSES section).

Author

The primary author of this document is Michael J. Amaral, New England Field Office (see ADDRESSES section).

Authority

The authority for this action is the Endangered Species Act of 1973, as amended (16 U.S.C. 1531 et seq.).

Dated: September 21, 2006.
Marshall Jones,
Acting Director, U.S. Fish and Wildlife Service.

[FR Doc. E6-16057 Filed 10-2-06; 8:45 am]

BILLING CODE 4310-55-P